DEPARTMENT OF LABOR

Employment and Training Administration

[TA-W-50,765]

Irving Forest Products, Pinkham Sawmill, Ashland, ME; Notice of Termination of Investigation

Pursuant to section 221 of the Trade Act of 1974, as amended, an investigation was initiated on January 31, 2003 in response to a union petition filed by Paper, Allied-Industrial, Chemical and Energy Workers International Union (PACE), AFL-CIO, Local 1-1310 on behalf of workers at Irving Forest Products, Pinkham Sawmill, Ashland, Maine.

The petitioner has requested that the petition be withdrawn. Consequently, further investigation would serve no purpose, and the investigation has been terminated.

Signed at Washington, DC, this 13th day of March, 2003.
Linda G. Poole,
Certifying Officer, Division of Trade Adjustment Assistance.

[FR Doc. 03-7913 Filed 4-1-03; 8:45 am]

BILLING CODE 4510-30-P